DEPARTMENT OF TRANSPORTATION

Federal Aviation Administration

14 CFR Part 39

[Docket No. FAA-2017-0174; Directorate Identifier 2014-SW-059-AD; Amendment 39-18973; AD 2017-15-13]

RIN 2120-AA64

Airworthiness Directives; Bell Helicopter Textron Canada Limited

AGENCY: Federal Aviation Administration (FAA), DOT.

ACTION: Final rule.

SUMMARY: We are adopting a new airworthiness directive (AD) for Bell Helicopter Textron Canada Limited (Bell) Model 429 helicopters. This AD requires reducing the life limit of certain landing gear parts and is prompted by a stress analysis. The actions of this AD are intended to address an unsafe condition on these products.

DATES: This AD is effective August 31, 2017.

ADDRESSES: For service information identified in this final rule, contact Bell Helicopter Textron Canada Limited, 12,800 Rue de l'Avenir, Mirabel, Quebec J7J1R4; telephone (450) 437-2862 or (800) 363-8023; fax (450) 433-0272; or at http://www.bellcustomer.com/files/. You may review the referenced service information at the FAA, Office of the Regional Counsel, Southwest Region, 10101 Hillwood Pkwy, Room 6N-321, Fort Worth, TX 76177.

Examining the AD Docket

You may examine the AD docket on the Internet at http://www.regulations.gov by searching for and locating Docket No. FAA-2017-0174; or in person at the Docket Operations Office between 9 a.m. and 5 p.m., Monday through Friday, except Federal holidays. The AD docket contains this AD, the Transport Canada AD, the economic evaluation, any comments received, and other information. The street address for the Docket Operations Office (phone: 800-647-5527) is U.S. Department of Transportation, Docket Operations Office, M-30, West Building Ground Floor, Room W12-140, 1200 New Jersey Avenue SE., Washington, DC 20590.

FOR FURTHER INFORMATION CONTACT: Matt Fuller, Senior Aviation Safety Engineer, Safety Management Group, Rotorcraft Directorate, FAA, 10101 Hillwood Pkwy., Fort Worth, TX 76177; telephone (817) 222-5110; email matthew.fuller@faa.gov.

SUPPLEMENTARY INFORMATION:

Discussion

On March 7, 2017, at 82 FR 12753, the Federal Register published our notice of proposed rulemaking (NPRM), which proposed to amend 14 CFR part 39 by adding an AD that would apply to Bell Model 429 helicopters. The NPRM proposed to require reducing the life limit of certain landing gear parts by requiring the removal from service of any part that has reached or exceeded its new life limit before further flight. The proposed requirements were intended to prevent failure of a landing gear part, failure of a landing gear skid, and subsequent loss of control of the helicopter during takeoff or landing.

The NPRM was prompted by AD No. CF-2014-28, dated August 19, 2014, issued by Transport Canada, which is the aviation authority for Canada, to correct an unsafe condition for Bell Model 429 helicopters, serial numbers 57001 and subsequent. Transport Canada advises that Bell has reduced the life limits of several landing gear components and accordingly revised the airworthiness limitations schedule for Model 429 helicopters. The reduced life limits resulted from a stress analysis completed by Bell after the introduction of the Model 429 helicopter to service. While the reduced life limits were originally published in Revision 9 of the Bell Model 429 maintenance manual, Transport Canada AD No. CF-2014-28 requires inserting the new airworthiness limitations schedule in Revision 10 of the Bell Model 429 maintenance manual. Transport Canada states that failure to replace those components prior to the established airworthiness life could result in an unsafe condition.

Comments

We gave the public the opportunity to participate in developing this AD, but we did not receive any comments on the NPRM.

FAA's Determination

These helicopters have been approved by the aviation authority of Canada and are approved for operation in the United States. Pursuant to our bilateral agreement with Canada, Transport Canada, its technical representative, has notified us of the unsafe condition described in its AD. We are issuing this AD because we evaluated all information provided by Transport Canada and determined the unsafe condition exists and is likely to exist or develop on other helicopters of the same type design and that air safety and the public interest require adopting the AD requirements as proposed.

Related Service Information

We reviewed Bell Model 429 Maintenance Manual BHT-429-MM-1, Chapter 4, Airworthiness Limitations Schedule, Revision 9, dated January 6, 2012, which specifies airworthiness life limits and inspection intervals for parts installed on Model 429 helicopters. Revision 9 reduced the life limits for the skid tube assemblies, forward crosstube assembly, and aft crosstube assembly.

Costs of Compliance

We estimate that this AD affects 71 helicopters of U.S. Registry. We estimate that operators may incur the following costs in order to comply with this AD. Labor costs are estimated at $85 per work-hour. Calculating the life limit will take about 0.25 work-hour for an estimated cost of $21 per helicopter and $1,491 for the U.S. fleet. Replacing a skid tube assembly will take about 2 work-hours and parts will cost about $7,050 for an estimated replacement cost of $7,220. Replacing a forward cross tube assembly will take about 1.5 work-hours and parts will cost about $5,880 for an estimated replacement cost of $6,008. Replacing an aft tube assembly will take about 1.5 work-hours and parts will cost $6,710 for an estimated replacement cost of $6,838.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on helicopters identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979);

(3) Will not affect intrastate aviation in Alaska to the extent that it justifies making a regulatory distinction; and

(4) Will not have a significant economic impact, positive or negative, on a substantial number of small entities under the criteria of the Regulatory Flexibility Act.

We prepared an economic evaluation of the estimated costs to comply with this AD and placed it in the AD docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2017-15-13 Bell Helicopter Textron Canada Limited: Amendment 39-18973; Docket No. FAA-2017-0174; Directorate Identifier 2014-SW-059-AD.

(a) Applicability

This AD applies to Bell Helicopter Textron Canada Limited Model 429 helicopters, certificated in any category.

(b) Unsafe Condition

This AD defines the unsafe condition as a landing gear part remaining in service beyond its fatigue life. This condition could result in failure of a landing gear part, failure of a landing gear skid, and subsequent loss of control of the helicopter during takeoff or landing.

(c) Effective Date

This AD becomes effective August 31, 2017.

(d) Compliance

You are responsible for performing each action required by this AD within the specified compliance time unless it has already been accomplished prior to that time.

(e) Required Actions

Before further flight, determine the accumulated retirement index number (RIN) for each part and remove it from service if it has reached or exceeded its life limit as follows. Thereafter, remove each part from service on or before reaching its life limit. For purposes of this AD, a run-on landing is defined as a landing with forward ground travel of the helicopter greater than 3 feet (0.91 m) with weight on skids.

(1) For Skid Tube Assembly part number (P/N) 429-700-101, 429-700-102, and 429-030-586-107: 16,000 RIN. Count 1 RIN for each landing; count 81 RIN for each run-on landing; and count 117 RIN for each autorotation landing.

(2) For Forward Crosstube Assembly P/N 429-712-101: 10,000 RIN. Count 1 RIN for each landing; count 50 RIN for each run-on landing; and count 118 RIN for each autorotation landing.

(3) Aft Crosstube Assembly P/N 429-723-108: 30,000 RIN. Count 1 RIN for each landing; count 32 RIN for each run-on landing; and count 186 RIN for each autorotation landing.

(f) Alternative Methods of Compliance (AMOCs)

(1) The Manager, Safety Management Group, FAA, may approve AMOCs for this AD. Send your proposal to: Matt Fuller, Senior Aviation Safety Engineer, Safety Management Group, Rotorcraft Directorate, FAA, 10101 Hillwood Pkwy., Fort Worth, TX 76177; telephone (817) 222-5110; email 9-ASW-FTW-AMOC-Requests@faa.gov.

(2) For operations conducted under a 14 CFR part 119 operating certificate or under 14 CFR part 91, subpart K, we suggest that you notify your principal inspector, or lacking a principal inspector, the manager of the local flight standards district office or certificate holding district office, before operating any aircraft complying with this AD through an AMOC.

(g) Additional Information

(1) Bell 429 Maintenance Manual BHT-429-MM-1, Volume 1, Chapter 4, Revision 9, dated January 6, 2012, which is not incorporated by reference, contains additional information about the subject of this AD. For service information identified in this AD, contact Bell Helicopter Textron Canada Limited, 12,800 Rue de l'Avenir, Mirabel, Quebec J7J1R4; telephone (450) 437-2862 or (800) 363-8023; fax (450) 433-0272; or at http://www.bellcustomer.com/files/. You may review a copy of the service information at the FAA, Office of the Regional Counsel, Southwest Region, 10101 Hillwood Pkwy, Room 6N-321, Fort Worth, TX 76177.

(2) The subject of this AD is addressed in Transport Canada AD No. CF-2014-28, dated August 19, 2014. You may view the Transport Canada AD on the Internet at http://www.regulations.gov in Docket No. FAA-2017-0174.

(h) Subject

Joint Aircraft Service Component (JASC) Code: 3200, Landing Gear System.

Issued in Fort Worth, Texas, on July 18, 2017.
Scott A. Horn,
Acting Manager, Rotorcraft Directorate, Aircraft Certification Service.

[FR Doc. 2017-15552 Filed 7-26-17; 8:45 am]

BILLING CODE 4910-13-P